DEPARTMENT OF ENERGY

Federal Energy Regulatory Commission

[Docket No. CP23-57-000]

Texas Eastern Transmission, LP; Notice of Schedule for the Preparation of an Environmental Assessment for the Grand Chenier Compressor Station Abandonment Project

On February 10, 2023, Texas Eastern Transmission, LP (Texas Eastern) filed an application in Docket No. CP23-57-000 requesting an Authorization pursuant to section 7(b) of the Natural Gas Act to abandon certain natural gas facilities. The proposed project is known as the Grand Chenier Compressor Station Abandonment Project (Project) and would authorize Texas Eastern to abandon its existing Grand Chenier Compressor Station. In 2019, the Commission issued orders approving abandonment of certain segments of Texas Eastern's Cameron System under Docket Nos. CP18-485-000, CP18-486-000, and CP18-505-000. According to Texas Eastern, the abandonment of these Cameron System segments removed the need for the Grand Chenier Compressor Station.

On February 17, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—August 8, 2023

90-day Federal Authorization Decision Deadline ²—November 6, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Texas Eastern proposes to abandon its existing 27,500 horsepower Grand Chenier Compressor Station in Cameron Parish, Louisiana. Texas Eastern would disconnect and remove aboveground structures and associated appurtenances along with all piping and other buried structures to a depth of two feet below grade. Texas Eastern's Line 41 and associated mainline valve would remain in-service.

Background

On March 10, 2023, the Commission issued a Notice of Scoping Period Requesting Comments on Environmental Issues for the Proposed Grand Chenier Compressor Station Abandonment Project (Notice of Scoping). The Notice of Scoping was sent to affected landowners (as defined by the Commission's regulations); federal, state, and local government agencies; elected officials; environmental and public interest groups; Native American tribes; other interested parties; and local libraries and newspapers. In response to the Notice of Scoping, the Commission to date has received comments from RESTORE, and the Environmental Protection Agency. The primary issues raised by the commenters are post-construction use of the site. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP23-57), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 7, 2023.
Kimberly D. Bose,
Secretary.

[FR Doc. 2023-07808 Filed 4-12-23; 8:45 am]

BILLING CODE 6717-01-P